DEPARTMENT OF ENERGY

Federal Energy Regulatory Commission

[Docket No. CP01-405-000]

Kern River Gas Transmission Company; Notice of Intent To Prepare an Environmental Assessment for the Proposed High Desert Lateral Project and Request for Comments on Environmental Issues

July 31, 2001.

The staff of the Federal Energy Regulatory Commission (FERC or Commission) will prepare an environmental assessment (EA) that will discuss the potential environmental impacts of the High Desert Lateral Project. This project would involving construction and operation of facilities by Kern River Gas Transmission Company (Kern River) in San Bernardino County, California.¹ Kern River would construct about 31.6 miles of 24-inch-diameter lateral pipeline, as well as an associated tap and three meter stations. This EA will be used by the Commission in its decision-making process to determine whether the project is in the public convenience and necessity.

¹ Kern River's application was filed with the Commission under Section 7(c) of the Natural Gas Act and Subpart A of Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need to Know?” was attached to the project notice Kern River provided to landowners. This fact sheet addresses a number of typically asked questions, including the use of eminent domain and how to participate in the Commission's proceedings. It is also available for viewing on the FERC Internet website (www.ferc.gov).

Summary of the Proposed Project

Kern River wants to construct facilities that would enable it to deliver an initial 141,000 dekatherms per day (Dth/d) of firm capacity service (with a total capacity for 282,000 dth/day) to a gas-fired electricity generating plant currently under construction in Victorville, California. The High Desert Power Project (HDPP), a combined-cycle facility, would provide 720 megawatts of new electric power in Southern California. Kern River seeks authority to construct and operate:

• About 31.6 miles of 24-inch-diameter lateral pipeline (the “High Desert Lateral”) extending from interconnections with the existing Kern River/Mojave Pipeline Common Facilities and the Pacific Gas and Electric Company (PG&E) systems near Kramer Junction to the new HDPP;

• A 20-inch-diameter mainline tap and receipt meter station (“Kern/Mojave Interconnect”), and a meter station and associated piping and valves (“PG&E Interconnect”) at the northern end of the proposed High Desert Lateral; and

• A delivery meter station where the High Desert Lateral would terminate at the HDPP.

The location of the project facilities is shown in appendix 1.²

² The appendices referenced in this notice are not being printed in the Federal Register. Copies of the appendices were sent to all those receiving this notice in the mail. This filing may also be viewed on the web at www.ferc.gov using the “RIMS” link. For instructions on connecting to RIMS refer to the last page of this notice.

Land Requirements for Construction

Construction of the proposed facilities would affect about 394 acres of land. About 192 acres of permanent easement and 181 acres of temporary construction right-of-way (ROW) would be necessary for pipeline construction. Construction of aboveground facilities would require an additional 1.2 acres (1.0 acres would be permanent ROW). Temporary extra work areas would affect almost 20 acres and would not create any new permanent ROW. About 89 percent of the total lateral length would be contiguous with existing utility and transportation ROWs.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this Notice of Intent (NOI), the Commission requests public comments on the scope of the issues we will address in the EA. All comments received are considered during the preparation of the EA. State and local government representatives are encouraged to notify their constituents of this proposal and encourage them to submit comments on their areas of concern.

¹ “We,” “us,” and “our” refer to the environmental staff of the Office of Energy Projects (OEP).

We note that Kern River's proposed project has already undergone extensive regulatory review, including the issuance of a Biological Opinion from the U.S. Fish and Wildlife Service (FWS); an Incidental Take Permit from the California Department of Fish and Game; a Record of Decision and ROW Grant from the U.S. Bureau of Land Management (BLM); and a Final Environmental Impact Statement prepared by the FWS, BLM, and U.S. Army Corps of Engineers. Kern River has identified three minor route deviations (totaling about 1.1 miles) and a pipe storage yard that were outside of the previously surveyed corridor. Our EA will discuss impacts that could occur as a result of the construction and operation of the proposed project under these general headings:

• Geology and soils

• Water resources

• Vegetation and wildlife

• Cultural resources

• Public safety

• Land use

• Endangered and threatened species

Our EA will include consideration of the No-Action Alternative and possible alternatives to the proposed project or portions of the project, where resource conflicts warrant such analysis. To the extent appropriate, our EA will also contain recommendations on how to lessen or avoid impact on the various resource areas. However, we expect to rely heavily on the existing analyses referenced above. As such, issues and alternatives evaluated previously will not be revisited.

Our independent analysis of the issues will be presented in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Public Participation

You can make a difference by providing us with your specific comments or concerns about the project. By becoming a commentor, your concerns will be addressed in the EA and considered by the Commission. You should focus on the potential environmental effects of the proposal, alternatives to the proposal (including alternative locations/routes) and measures to avoid or lessen environmental impact. The more specific your comments, the more useful they will be. Please follow these instructions carefully to ensure that your comments are received in time and properly recorded:

• Send an original and two copies of your letter to: David P. Boergers, Secretary, Federal Energy Regulatory Commission 888 First St. NE, Room 1A, Washington, DC 20426.

• Label one copy of the comments for the attention of Gas Group 1.

• Reference Docket No. CP01-405-000.

• Mail your comments so that they will be received in Washington, DC on or before September 7, 2001.

Comments, protests and interventions may be filed electronically via the Internet in lieu of paper. See 18 CFR 385.2001(a)(1)(iii) and the instructions on the Commission's web site under the “e-Filing” link.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

You do not need intervenor status to have your environmental comments considered. Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-19531 Filed 8-2-01; 8:45 am]

BILLING CODE 6717-01-P